POSTAL SERVICE

New Standards for Domestic Mailing Services

AGENCY: Postal Service.

ACTION: Notice of availability.

SUMMARY: On January 17, 2007, the Postal Service published an updated proposal in the Federal Register (72 FR 2089) providing new mailing standards to accompany the R2006-1 price change proposal currently before the Postal Regulatory Commission. We posted a new document on our Web site at http://www.usps.com/ratecase to respond to the comments we received on our January proposal and to further revise the proposed mailing standards.

In addition to the new document, you can find our earlier proposals at http://www.usps.com/ratecase, along with side-by-side comparisons of today's prices and those that are currently under review by the Postal Regulatory Commission. Our Web site also provides helpful information for mailers, including frequently asked questions, press releases, and Mailers Companion and MailPro articles related to the pricing change. We encourage you to review our proposed mailing standards and use our electronic tools as you prepare for the pricing change.

DATES: The document is available beginning February 14, 2007.

FOR FURTHER INFORMATION CONTACT: Joel Walker, 202-268-7261.

Neva R. Watson,
Attorney, Legislative.

[FR Doc. E7-2825 Filed 2-15-07; 8:45 am]

BILLING CODE 7710-12-P